DEPARTMENT OF AGRICULTURE

Animal and Plant Health Inspection Service

9 CFR Parts 1 and 2

[Docket No. APHIS-2017-0062]

RIN 0579-AE35

Animal Welfare; Procedures for Applying for Licenses and Renewals

AGENCY: Animal and Plant Health Inspection Service, USDA.

ACTION: Advance notice of proposed rulemaking; extension of comment period.

SUMMARY: We are extending the comment period for our advance notice of proposed rulemaking regarding potential revisions to the licensing requirements under our Animal Welfare Act regulations. This action will allow interested persons additional time to prepare and submit comments.

DATES: The comment period for the advanced notice of proposed rulemaking published on August 24, 2017 (82 FR 40077), is extended. We will consider all comments that we receive on or before November 2, 2017.

ADDRESSES: You may submit comments by either of the following methods:

• Federal eRulemaking Portal: Go to http://www.regulations.gov/#!docketDetail;D=APHIS-2017-0062.

• Postal Mail/Commercial Delivery: Send your comment to Docket No. APHIS-2017-0062, Regulatory Analysis and Development, PPD, APHIS, Station 3A-03.8, 4700 River Road Unit 118, Riverdale, MD 20737-1238.

Supporting documents and any comments we receive on this docket may be viewed at http://www.regulations.gov/#!docketDetail;D=APHIS-2017-0062 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Kay Carter-Corker, Director, National Policy Staff, Animal Care, APHIS, USDA, 4700 River Road Unit 84, Riverdale, MD 20737; (301) 851-3748.

SUPPLEMENTARY INFORMATION: On August 24, 2017, we published in the Federal Register (82 FR 40077-40078, Docket No. APHIS-2017-0062) an advance notice of proposed rulemaking (ANPR) on potential revisions to the licensing requirements under our Animal Welfare Act regulations. The revisions under consideration would promote compliance with the Act, reduce licensing fees, and strengthen existing safeguards that prevent any individual whose license has been suspended or revoked, or who has a history of noncompliance, from obtaining a license or working with regulated animals.

Comments on the ANPR were required to be received on or before October 23, 2017. We are extending the comment period on Docket No. APHIS-2017-0062 for an additional 10 days. This action will allow interested persons additional time to prepare and submit comments.

Authority: 7 U.S.C. 2131-2159; 7 CFR 2.22, 2.80, and 371.7.

Done in Washington, DC, this 18th day of October 2017.
Michael C. Gregoire,
Acting Administrator, Animal and Plant Health Inspection Service.

[FR Doc. 2017-22940 Filed 10-20-17; 8:45 am]

BILLING CODE 3410-34-P